FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take action with respect to these proposed acquisitions during the applicable waiting period.

Trans # | Acquiring | Acquired | Entities
Transactions Granted Early Termination—02/05/2001
20011310 | Flextronics International Ltd. | Greg Ronan | Wave Optics, Inc.
20011326 | Heartland Industrial Partners, L.P. | Collins & Aikman Corporation | Collins & Aikman Corporation.
20011328 | PMD Group Holdings Inc. | The B.F. Goodrich Company | BF Goodrich Chemical Belgie BVBA.
|  |  | BF Goodrich China Inc.
|  |  | BF Goodrich, FCC, Inc. US.
|  |  | Goodrich Holding Corporation.
|  |  | The B.F. Goodrich Company.
20011336 | Dr. Terrence H. Matthews | Mitel Corporation | Mitel Knowledge Corporation, Mitel Telecom Limited.
|  |  | Mitel Networks Corporation.
|  |  | Mitel Research Park Corporation.
Transactions Granted Early Termination—02/06/2001
20004859 | Blue Cross Blue Shield of Michigan | Ascension Health | SelectCare, Inc.
20004860 | Henry Ford Health System | Ascension Health | SelectCare, Inc.
20010439 | Eastman Kodak Company | Bell & Howell Company | Bell & Howell Company.
20011342 | Citigroup Inc. | Delco Remy International, Inc. | Delco Remy International, Inc.
20011365 | Olivetti, S.p.A. | NetCreations, Inc. | NetCreations, Inc.
Transactions Granted Early Termination—02/07/2001
20011271 | Providence Media Partners L.P. | VoiceStream Wireless Corporation | VoiceStream Wireless Corporation.
20011272 | Providence Equity Partners III L.P. | VoiceStream Wireless Corporation | VoiceStream Wireless Corporation.
20011283 | VoiceStream Wireless Corporation | VoiceStream Wireless Corporation | Cook Inlet GSM Control LLC/Cook Inlet PV SS PCS Partners, LP.
20011287 | Vestar Capital Partners, IV, L.P. | Michael Foods, Inc. | Michael Foods, Inc.
20011312 | LT Participations S.A. | Tod Johnson | The NPD Group, Inc.
20011316 | Oak Hill Capital Partners, L.P. | MeriStar Hotels & Resorts, Inc. | MeriStar Hotels & Resorts, Inc.
20011343 | APW, Ltd. | William F. Connell | Connell Limited Partnership.
20011344 | William F. Connell | APW, Ltd. | APW, Ltd.
20011348 | b2bstores.com, Inc. | IVAX Corporation | IVAX Diagnostics, Inc.
20011353 | Berkshire Hathaway Inc. | American Express Company | American Express Company.
20011354 | Westmoreland Coal Company | Montana Power Company | Basin Resources, Inc.
|  |  | Horizon Coal Services, Inc.
|  |  | North Central Energy Company.
|  |  | Northwestern Resources Co.
|  |  | Western Energy Company.
20011355 | Allegheny Energy, Inc. | Merrill Lynch & Co., Inc. | Merrill Lynch Capital Services, Inc.
20011356 | Sysco Corporation | Guest Supply, Inc. | Guest Supply, Inc.
20011357 | Svenska Cellulosa Aktiebolaget SCA (publ) | Tuscarora Incorporated | Tuscarora Incorporated.
20011358 | Madison Dearborn Capital Partners III, L.P. | Magellan Health Services, Inc. | National Mentor, Inc.
20011361 | NetIQ Corporation | WebTrends Corporation | WebTrends Corporation.
20011362 | W. Glen Boyd | NetIQ Corporation | NetIQ Corporation.
20011363 | Elijahu Shapira | NetIQ Corporation | NetIQ Corporation.
20011368 | Warburg, Pincus Ventures, L.P. | Newfield Exploration Company | Newfield Exploration Company.
20011370 | SBC Communications Inc. | SBC Communications Inc. | BellSouth Wireless Data, L.P.
Transactions Granted Early Termination—02/08/2001
20001571 | Consolidated Edison, Inc. | Northeast Utilities | Northeast Utilities.
20011364 | Prometheus Laboratories, Inc. | Counsel Corporation | Counsel Corporation.
Transactions Granted Early Termination—02/09/2001
20011351 | Bayer AG | CuraGen Corporation | CuraGen Corporation.
Transactions Granted Early Termination—02/12/2001
20011366 | Nippon Paper Industries Co., Ltd. | Daishowa Paper Manufacturing Co., Ltd. | Daishowa Paper Manufacturing Co., Ltd.
20011367 | Daishowa Paper Manufacturing Co., Ltd. | Nippon Paper Industries Co., Ltd. | Nippon Paper Industries Co., Ltd.
20011371 | STMicroelectronics N.V. | Ravisent Technologies, Inc. | Ravisent Technologies, Inc.
Transactions Granted Early Termination—02/13/2001
20004261 | DS Uniphase Corporation | SDL, Inc. | SDL, Inc.
20011329 | Credit Suisse Group | PMD Group Holdings, Inc. | PMD Group Holdings, Inc.
20011330 | Deutsche Bank AG | PMD Group Holdings, Inc. | PMD Group Holdings, Inc.
20011345 | Thomas J. Barrack, Jr. | Kersaf Investment Ltd. | New Pier Operating Company, Inc.
|  |  | Resorts International Hotel, Inc.
20011369 | WCW Acquisition, Inc. | AOL Time Warner, Inc. | World Championship Wrestling, Inc.
20011374 | St. John's University, New York | Insurance Society of New York, Incorporation | Insurance Society of New York, Incorporation.
20011376 | Modine Manufacturing Company | Thermacore International, Inc. | Termacore International, Inc.
20011377 | Hexagon AB | Brown & Sharpe Manufacturing Company | Brown & Sharpe Manufacturing Company
|  |  | BSIS, Inc.
20011381 | The Basketball Club of Seattle, LLC | Barry A. Ackerley | SSI, Inc., T.C. Aviation, Inc.
|  |  | The Ackerley Group, Inc., Ackerley Media Group, Inc.
20011383 | Advanced Digital Information Corporation | Pathlight Technology, Inc. | Pathlight Technology, Inc.
20011386 | Catholic Health East | Catholic Health Initiatives | Catholic Health Initiatives.
20011388 | Dover Corporation | Cortec Group Fund II, L.P. | Switchcraft Holdings, Inc.
20011390 | Proxim, Inc. | Netopia, Inc. | Netopia, Inc.
20011391 | Dentsply International Inc. | AstraZeneca pic | AstraZeneca AB
20011393 | United Parcel Service, Inc. | First International Bancorp, Inc. | First International Bancorp, Inc.
20011397 | Argosy Gaming Company | Argosy Gaming Company | Indiana Gaming Company, L.P.
20011400 | The May Department Stores Company, a Delaware corporation | Saks Incorporated, a Tennessee corporation | Saks Incorporated, a Tennessee corporation.
20011403 | Heartland Industrial Partners, L.P. | Heartland Industrial Partners, L.P. | Metaldyne Corporation.
20011413 | Alton Ochsner Medical Foundation | Ochsner Clinic L.L.C. | Ochsner Clinic, L.L.C.
20011414 | Harza Engineering Company, Inc. | Montgomery Watson, Inc. | Montgomery Watson, Inc.
20011416 | KKR 1996 Fund L.P. | NewSouth Holdings, Inc. | NewSouth Holdings, Inc.
20011422 | The Guardian Life Insurance Company of America | Berkshire Life Insurance Company | Berkshire Life Insurance Company.
20011424 | CORNELLA Verwaltungsgesellschaft mbH | Aventis | Hoechst NewCo II.
20011425 | AT&T Corp. | Cox Enterprises, Inc. | Cox@Home, Inc.
20011428 | Constellation Brands, Inc. | Sebastiani Vineyards, Inc. | Sebastiani Vineyards, Inc.
20011434 | Solectron Corporation | Centennial Technologies, Inc. | Centennial Technologies, Inc.
20011435 | Pediatrix Medical Group, Inc. | Magella Healthcare Corporation | Megella Healthcare Corporation.
20011438 | The Hartford Financial Services Group, Inc. | Fortis (B) | Fortis Advisers, Inc.
|  |  | Fortis, Inc.
20011439 | The Hartford Financial Services Group, Inc. | Fortis (NL) N.V. | Fortis Advisers, Inc.
|  |  | Fortis, Inc.
20011440 | Hub International Limited | Kaye Group Inc. | Kaye Group Inc.
200114411 | Quadrant Holding | DSM N.V. | DSM Engineering Plastic Products Holding Company, Inc.
20011490 | Andrew J. McKelvey | James W. Goldman | JWG Associates Inc.
Transactions Granted Early Termination—02/14/2001
20011320 | Microsoft Corporation | Great Plains Software, Inc. | Great Plains Software, Inc.
20011405 | General Electric Company | Rollins Truck Leasing Company | Rolins Truck Leasing Company
20011442 | Mitsui Marine and Fire Insurance Co., Ltd. | The Sumitomo Marine and Fire Insurance Co., Ltd | The Sumitomo Marine and Fire Insurance Co., Ltd.
20011452 | Radio One, Inc. | Blue Chip Broadcasting Inc. | Blue Chip Broadcasting, Inc.
20011458 | El Paso Energy Partners | El Paso Energy Corporation | El Paso Energy Corporation
20011459 | WPS Resources Corporation | Sierra Pacific Resources | Sierra Pacific Power Company.
20011465 | General Electric Company | Interpool, Inc. | Interpool, Inc.
20011467 | The Goldman Sachs Group, Inc. | Benjamin Jacobson & Sons, LLC | Benjamin Jacobson & Sons, LLC.
20011468 | AT&T Corp. | Brian L. Roberts | Comcast PC Investments, Inc.
20011471 | UnitedGlobalCom, Inc. | AT&T Corp. | Liberty International DLA, Inc.
20011482 | The Procter & Gamble Company | Project EMM, Inc. | Project EMM, Inc.
20011487 | Carlyle Partners III, L.P. | Grand Vehicle Works Holdings, Inc. | Grand Vehicle Works Holdings, Inc.
20011495 | Quanta Services, Inc. | John DiLeo, Jr. | Hylan DataCom & Electrical, Inc.
20011496 | Quanta Services, Inc. | Michael Paterno | Hylan Electrical Contracting Inc.
|  |  | Trinity Cable & Lighting Inc., Gibaltar Construction Corp.
|  |  | Trinity Communication Corps.
Transactions Granted Early Termination—02/16/2001
20011298 | Halliburton Company | Petroleum Geo-Services, ASA | Petroleum Geo-Services (U.S.), Inc.
|  |  | PGS Data Management, Inc.
|  |  | PGS Tigress (UK), Ltd. PGS Data Management, Inc.
20011306 | United Parcel Service, Inc. | Fritz Companies, Inc. | Fritz Companies, Inc.
20011350 | Verizon Communications Inc. | Price Communications Corporation | Price Communications Wireless, Inc.
20011406 | Constellation Energy Group, Inc. | Niagara Mohawk Holdings, Inc. | Niagara Mohawk Holdings, Inc.
20011437 | The AES Corporation | Sierra Pacific Resources | Nevada Power Corporation.
20011443 | Nitsuko Corporation | NEC Corporation | NEC America, Inc.
20011444 | NEC Corporation | Nitsuko Corporation | Nitsuko America Corporation.
20011453 | Health Care Service Corporation | The Regence Group | The Regence Group.
20011457 | Aristocrat Leisure Limited | Casino Data Systems | Casino Data Systems.
20011460 | Nippon Telegraph and Telephone Corporation | AT&T Corp. | AT&T Wireless Services, Inc.
20011481 | Nestle' S.A. | Interstate Bakeries Corporation | Interstate Bakeries Corporation.
20011485 | Constellation Energy Group, Inc. | RGS Energy Group, Inc. | RGS Energy Group, Inc.
20011486 | Constellation Energy Group, Inc. | Energy East Corporation | New York State Electric & Gas Corporation.
20011493 | Constellation Energy Group, Inc. | CH Energy Group, Inc. | Central Hudson Gas & Electric Corporation.
20011500 | ALZA Corporation | Merck & Co., Inc. | Merck & Co., Inc.

FOR FURTHER INFORMATION CONTACT: Sandra M. Peay or Parcellena P. Fielding, contact representatives, Federal Trade Commission, Premerger Notification Office, Bureau of Competition, Room 303, Washington, DC 20580, (202) 326-3100.

By Direction of the Commission.
Donald S. Clark,
Secretary.

[FR Doc. 01-6137 Filed 3-12-01; 8:45 am]

BILLING CODE 6750-01-M